DEPARTMENT OF COMMERCE

National Oceanic and Atmospheric Administration

50 CFR Parts 600 and 622

[Docket No. 080225276-4124-01]

RIN 0648-AS65

Fisheries of the Caribbean, Gulf, and South Atlantic; Aquaculture

AGENCY: National Marine Fisheries Service (NMFS), National Oceanic and Atmospheric Administration (NOAA), Commerce.

ACTION: Proposed rule; reopening of comment period.

SUMMARY: NMFS reopens the comment period on the proposed rule to implement the Fishery Management Plan for Regulating Offshore Aquaculture in the Gulf of Mexico (FMP) that published on August 28, 2014. The original comment period closed on October 27, 2014. NMFS is reopening the comment period for an additional 15 days to provide the public additional time to comment on this proposed rule. If implemented, the proposed rule would establish a comprehensive regulatory program for managing the development of an environmentally sound and economically sustainable aquaculture industry in Federal waters of the Gulf of Mexico (Gulf). The purpose of the proposed rule is to increase the yield of Federal fisheries in the Gulf by supplementing the harvest of wild caught species with cultured product.

DATES: The comment period for the proposed rule that published on August 28, 2014 (79 FR 51424), and closed on October 27, 2014, will reopen on November 13, 2014 and remain open through November 28, 2014.

ADDRESSES: You may submit comments on the proposed rule, identified by “NOAA-NMFS-2008-0233,” by any of the following methods:

• Electronic Submissions: Submit electronic public comments via the Federal e-Rulemaking Portal. Go to www.regulations.gov/#!docketDetail;D=NOAA-NMFS-2008-0233, click the “Comment Now!” icon, complete the required fields, and enter or attach your comments.

• Mail: Submit written comments to Jess Beck-Stimpert, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the FMP, which includes a final programmatic environmental impact statement (FPEIS), an initial regulatory flexibility analysis (IRFA), and a regulatory impact review (RIR) may be obtained from the Southeast Regional Office Web site at http://sero.nmfs.noaa.gov.

Comments regarding the burden-hour estimates or other aspects of the collection-of-information requirements contained in this proposed rule may be submitted in writing to Anik Clemens, Southeast Regional Office, NMFS, 263 13th Ave. South, St. Petersburg, FL 33701; and the Office of Management and Budget (OMB), by email at OIRASubmission@omb.eop.gov, or by fax to 202-395-7285.

FOR FURTHER INFORMATION CONTACT: Jess Beck-Stimpert, 727-824-5301.

SUPPLEMENTARY INFORMATION: Aquaculture in the Gulf will be managed under the FMP. The FMP was prepared by the Council and is being implemented through regulations at 50 CFR part 622 under the authority of the Magnuson-Stevens Fishery Conservation and Management Act (Magnuson-Stevens Act).

On August 28, 2014, NMFS published a proposed rule to implement the FMP to authorize the development of commercial aquaculture operations in Federal waters of the Gulf (79 FR 51424). The FMP provides a comprehensive framework for authorizing and regulating offshore aquaculture activities. The FMP also establishes a programmatic approach for evaluating the potential impacts of proposed aquaculture operations in the Gulf.

NMFS received several requests from the public to extend the comment period of the proposed rule. Due to the extensive nature of the FMP and the proposed rulemaking, NMFS is reopening the comment period on the proposed rule for an additional 15 days. Comments submitted during the prior comment period will be incorporated into the public record and will be fully considered during the preparation of the final rule.

Authority: 5 U.S.C. 561 and 16 U.S.C. 1801 et seq.

Dated: November 4, 2014.
Samuel D. Rauch III,
Deputy Assistant Administrator for Regulatory Programs, National Marine Fisheries Service.

[FR Doc. 2014-26801 Filed 11-12-14; 8:45 am]

BILLING CODE 3510-22-P